DEPARTMENT OF TRANSPORTATION

Federal Aviation Administration

Air Traffic Procedures Advisory Committee

AGENCY: Federal Aviation Administration (FAA), DOT.

SUMMARY: The FAA is issuing this notice to advise the public that a meeting of the Federal Aviation Administration Air Traffic Procedures Advisory Committee (ATPAC) will be held to review present air traffic control procedures and practices for standardization, revision, clarification, and upgrading of terminology and procedures.

DATES: The meeting will be held Tuesday, February 7, and Wednesday, February 8, 2012 from 8:30 a.m. to 5 p.m.

ADDRESSES: The meeting will be held at FAA Building FOB 10A, 800 Independence Avenue SW., Washington, DC 20591.

FOR FURTHER INFORMATION CONTACT: Mr. Gary Norek, ATPAC Executive Director, 800 Independence Avenue SW., Washington, DC 20591.

SUPPLEMENTARY INFORMATION: Pursuant to Section 10(a)(2) of the Federal Advisory Committee Act (Pub. L. 92-463; 5 U.S.C. App. 2), notice is hereby given of a meeting of the ATPAC to be held Tuesday, February 7, and Wednesday, February 8, 2012 from 8:30 a.m. to 5 p.m.

The agenda for this meeting will cover a continuation of the ATPAC's review of present air traffic control procedures and practices for standardization, revision, clarification, and upgrading of terminology and procedures. It will also include:

1. Approval of Minutes;

2. Submission and Discussion of Areas of Concern;

3. Discussion of Potential Safety Items;

4. Report from Executive Director;

5. Items of Interest; and

6. Discussion and agreement of location and dates for subsequent meetings.

Attendance is open to the interested public but limited to space available. With the approval of the Chairperson, members of the public may present oral statements at the meeting. Persons desiring to attend and persons desiring to present oral statements should notify Mr. Gary Norek no later than January 25, 2012. Any member of the public may present a written statement to the ATPAC at any time at the address given above.

Issued in Washington, DC, on January 5, 2012.
Gary A. Norek,
Executive Director, Air Traffic Procedures Advisory Committee.

[FR Doc. 2012-802 Filed 1-17-12; 8:45 am]

BILLING CODE 4910-13-P